DEPARTMENT OF HEALTH AND HUMAN SERVICES

National Institutes of Health

Center for Scientific Review Amended; Notice of Meeting

Notice is hereby given of a change in the meeting of the Neurotransporters, Receptors, and Calcium Signaling Study Section, June 7, 2012, 8:00 a.m. to June 7, 2012, 5:00 p.m., Embassy Suites at the Chevy Chase Pavilion, 4300 Military Road NW., Washington, DC, 20015 which was published in the Federal Register on May 8, 2012, 77FR 27073-27075.

The meeting will be held on June 7, 2012. The meeting location has been changed to the Mayflower Renaissance 1127 Connecticut Ave. NW., Washington, DC 20036. The meeting is closed to the public.

Dated: May 16, 2012.
Jennifer S. Spaeth,
Director, Office of Federal Advisory Committee Policy.

[FR Doc. 2012-12363 Filed 5-21-12; 8:45 am]

BILLING CODE 4140-01-P